COMMISSION ON CIVIL RIGHTS

Notice of Public Meeting of the Connecticut Advisory Committee

AGENCY: Commission on Civil Rights.

ACTION: Announcement of meeting.

SUMMARY: Notice is hereby given, pursuant to the provisions of the rules and regulations of the U.S. Commission on Civil Rights (Commission), and the Federal Advisory Committee Act (FACA), that the Connecticut Advisory Committee to the U.S. Commission on Civil Rights will hold a third briefing on the impact of algorithms on civil rights in Connecticut on Thursday, January 12, 2023, at 2 p.m. (ET). The purpose of the meeting is to continue its work on algorithms.

Date and Time: Thursday, January 12, 2023; 2 p.m. (ET)

Zoom Link (audio/video): https://tinyurl.com/2p9p2vr3; passcode, if needed: USCCR-CT

If Joining by Phone Only: 1-551-285-1373; Meeting ID: 160 490 1057#

FOR FURTHER INFORMATION CONTACT: Barbara Delaviez at ero@usccr.gov or by phone at 202-539-8246.

SUPPLEMENTARY INFORMATION: If other persons who plan to attend the meeting require other accommodations, please contact Evelyn Bohor at ebohor@usccr.gov at the Eastern Regional Office at least ten (10) working days before the scheduled date of the meeting. During the meeting, closed captioning will be available to you as needed.

Members of the public are entitled to make comments during the open comment period towards the end of the meeting. Members of the public may also submit written comments; the comments must be received in the Regional Programs Unit within 30 days following the meeting. Written comments may be emailed to Barbara de La Viez at ero@usccr.gov. Persons who desire additional information may contact the Regional Programs Unit at (202) 539-8246. Records and documents discussed during the meeting will be available for public viewing as they become available at www.facadatabase.gov. Persons interested in the work of this advisory committee are advised to go to the Commission's website, www.usccr.gov, or to contact the Regional Programs Unit at the above phone number or email address.

Agenda

Thursday, January 12, 2023; 2 p.m. (ET)

I. Welcome and Roll Call

II. Business Meeting

III. Public Comment

IV. Adjournment

Exceptional Circumstance: Pursuant to 41 CFR 102-3.150, the notice for this meeting is given fewer than 15 calendar days prior to the meeting because of the exceptional circumstances of staffing shortage.

Dated: January 4, 2023.
David Mussatt,
Supervisory Chief, Regional Programs Unit.

[FR Doc. 2023-00228 Filed 1-9-23; 8:45 am]

BILLING CODE P